DEPARTMENT OF THE INTERIOR

Minerals Management Service

Outer Continental Shelf Official Protraction Diagrams

AGENCY: Minerals Management Service, Interior.

ACTION: Availability of revised North American Datum of 1927 (NAD 27) Outer Continental Shelf Official Protraction Diagrams.

SUMMARY: Notice is hereby given that effective with this publication, the following NAD 27-based Outer Continental Shelf Official Protraction Diagrams, with revision dates as indicated, are available for information only, in the Gulf of Mexico OCS Regional Office, New Orleans, Louisiana. Copies are also available for download at http://www.mms.gov/ld/maps.htm. The Minerals Management Service in accordance with its authority and responsibility under Title 43, Code of Federal Regulations, is updating the basic record used for the description of mineral and oil and gas lease sales in the geographic areas they represent.

Outer Continental Shelf Official Protraction Diagrams in the Central and Eastern Gulf of Mexico Planning Areas

Description/Date

NH16-05 (Pensacola)—February 28, 2007.

NH16-08 (Destin Dome)—February 28, 2007.

NH16-11 (De Soto Canyon)—February 28, 2007.

NG16-02 (Lloyd Ridge)—February 28, 2007.

NG16-05 (Henderson)—February 28, 2007.

NG16-08 (Florida Plain)—February 28, 2007.

FOR FURTHER INFORMATION CONTACT: Copies of Official Protraction Diagrams (OPDs) and Leasing Maps are $2.00 each. These may be purchased from the Public Information Unit, Information Services Section, Gulf of Mexico OCS Region, Minerals Management Service, 1201 Elmwood Park Boulevard, New Orleans, Louisiana 70123-2394, Telephone (504) 736-2519 or (800) 200-GULF.

SUPPLEMENTARY INFORMATION: Official Protraction Diagrams and Leasing Maps may be obtained in two digital formats: gra files for use in ARC/INFO and .pdf files for viewing and printing in Adobe Acrobat.

Dated: May 29, 2007.
Chris C. Oynes,
Associate Director for Offshore Minerals Management.

[FR Doc. E7-12579 Filed 6-28-07; 8:45 am]

BILLING CODE 4310-MR-P